FEDERAL TRADE COMMISSION

16 CFR Part 310

Telemarketing Sales Rule

AGENCY: Federal Trade Commission.

ACTION: Correcting amendments.

SUMMARY: The Federal Trade Commission published a final amended Telemarketing Sales Rule in the Federal Register on August 10, 2010 (75 FR 48458), with new provisions to address the telemarketing of debt relief services. This document makes technical corrections in that final rule.

DATES: Effective on September 22, 2011.

FOR FURTHER INFORMATION CONTACT: Karen S. Hobbs, Attorney, Division of Marketing Practices, Bureau of Consumer Protection, Federal Trade Commission, Washington, DC 20580, (202) 326-3587.

SUPPLEMENTARY INFORMATION: This document makes technical corrections in the Telemarketing Sales Rule.

List of Subjects in 16 CFR Part 310

Telemarketing, Trade practices.

Accordingly, 16 CFR part 310 is corrected by making the following correcting amendments:

PART 310—TELEMARKETING SALES RULE

1. The authority citation for part 310 continues to read as follows:

Authority: 15 U.S.C. 6101-6108.

§ 310.4 [Amended]

2. In § 310.4:

a. Amend the last sentence of paragraph (a)(7) by removing “(a)(6)(i)” and adding in its place “(a)(7)(i)”.

b. Amend paragraph (a)(7)(i)(B) by removing “(a)(6)(i)(A)” and adding in its place “(a)(7)(i)(A)”.

c. Amend the introductory text of paragraph (a)(7)(ii) by removing “(a)(6)(i)” and adding in its place “(a)(7)(i)”.

d. Amend paragraph (a)(7)(ii)(B) by removing “(a)(6)(ii)(A)” and adding in its place A(a)(7)(ii)(A)”.

By direction of the Commission.
Donald S. Clark,
Secretary.

[FR Doc. 2011-24361 Filed 9-21-11; 8:45 am]

BILLING CODE 6750-01-P